DEPARTMENT OF JUSTICE

Antitrust Division

Notice Pursuant to the National Cooperative Research and Production Act of 1993—National Fire Protection Association

Notice is hereby given that, on September 20, 2004, pursuant to section 6(a) of the National Cooperative Research and Production Act of 1993, 15 U.S.C. 4301 et seq. (“the Act”), National Fire Protection Association (“NFPA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: National Fire Protection Association, Quincy, MA. The nature and scope of NFPA's standards development activities are: NFPA develops close to 300 standards (variously denominated as Codes, Standards, Guides, and Recommended Practices) in a broad range of fields related to fire and electrical safety, safety in buildings and structures, life safety as well as other fields related to the safeguarding of life and property. NFPA standards cover an array of subjects including, but not limited to, prevention of and protection from fire, explosion, electricity, lightning and other hazards; test methods; design, installation and maintenance of fire protection and other safety systems; professional qualifications for enforcement officials and fire, medical and other emergency personnel; accident prevention; premises security; safety in buildings and other structures and locations; chemical and hazardous materials storage and handling; and a variety of subjects related to fire, medical and other emergency services including safety and health, training, organization, deployment and operations, and protective clothing and equipment. NFPA also engages in several conformity assessment activities using NFPA standards. These include several professional certification programs supporting the fire protection, fire service, building, and electrical inspection professions.

NFPA standards are developed by approximately 240 different Technical Committees (including committees known as Technical Correlating Committees that head multi-committee projects), and these Committees are the principal consensus-developed bodies within the NFPA standards development process. The full scope of NFPA's standards activities are reflected in the scope statements of NFPA Technical Committees and in NFPA standards that have been issued or are under development. This information together with other information showing the nature and scope of NFPA's standards development activities are available directly from NFPA, to the attention of Casey C. Grant, Assistant Vice President, Codes and Standards Administration, at the above address, telephone (617) 984-7241, e-mail cgrant@nfpa.org. NFPA also maintains current information about its standards development activities on its Web site at http://www.nfpa.org. For additional information, please contact: Maureen Brodoff, Vice President & General Counsel, at the above address, telephone (617) 984-7256, e-mail mbrodoff@nfpa. org.

Dorothy B. Fountain,
Deputy Director of Operations, Antitrust Division.

[FR Doc. 04-23518 Filed 10-20-04; 8:45 am]

BILLING CODE 4410-11-M